ENVIRONMENTAL PROTECTION AGENCY

[FRL-9255-4]

Proposed Administrative Settlement Agreement Under Section 122(h) of the Comprehensive Environmental Response, Compensation, and Liability Act for the D'Imperio Property Superfund Site, Located in Hamilton Township, Atlantic County, NJ

AGENCY: Environmental Protection Agency.

ACTION: Notice of proposed administrative settlement and opportunity for public comment.

SUMMARY: The United States Environmental Protection Agency (“EPA”) is proposing to enter into an administrative settlement agreement (“Settlement Agreement”) with Air Products and Chemicals, Inc., Alco Industries, Inc., Bayer CropScience Inc., Colonial Heights Packaging, Inc., Continental Holdings, Inc., Croda Inks Corporation, Henkel Corporation, Kimberly-Clark Tissue Company, Sonoco Products Company, Stepan Company, Union Carbide Corporation, USG Corporation, and United States Steel Corporation (“Respondents”) pursuant to Section 122(h) of the Comprehensive Environmental Response, Compensation, and Liability Act (“CERCLA”), 42 U.S.C. 9622(h). The Settlement Agreement provides for Respondents' payment of certain costs incurred and to be incurred at the D'Imperio Property Superfund Site, located in Hamilton Township, Atlantic County, New Jersey (“Site”).

In accordance with Section 122(i) of CERCLA, 42 U.S.C. 9622(i), this notice is being published to inform the public of the proposed Settlement Agreement and of the opportunity to comment. For thirty (30) days following the date of publication of this notice, EPA will receive written comments relating to the proposed Settlement Agreement. EPA will consider all comments received and may modify or withdraw its consent to the settlement if comments received disclose facts or considerations that indicate that the proposed settlement is inappropriate, improper or inadequate. EPA's response to any comments received will be available for public inspection at EPA Region 2, 290 Broadway, 17th floor New York, New York 10007-1866.

DATES: Comments must be provided by February 22, 2011.

ADDRESSES: Comments should reference the D'Imperio Superfund Site, EPA Docket No. CERCLA-02-2010-2024 and should be sent to the U.S. Environmental Protection Agency, Region 2, Office of Regional Counsel, New Jersey Superfund Branch, 290 Broadway—17th Floor, New York, NY 10007.

FOR FURTHER INFORMATION CONTACT: Michael J. van Itallie, Assistant Regional Counsel, New Jersey Superfund Branch, Office of Regional Counsel, U.S. Environmental Protection Agency, Region 2, 17th Floor, 290 Broadway, New York, New York 10007-1866. Telephone: 212-637-3151.

SUPPLEMENTARY INFORMATION: A copy of the proposed administrative settlement, as well as background information relating to the settlement, may be obtained from Michael J. van Itallie, Assistant Regional Counsel, New Jersey Superfund Branch, Office of Regional Counsel, U.S. Environmental Protection Agency, Region 2, 17th Floor, 290 Broadway, New York, New York 10007-1866. Telephone: 212-637-3151.

Dated: January 11, 2011.
John E. Lapadula,
Acting Director, Emergency and Remedial Response Division.

[FR Doc. 2011-1256 Filed 1-20-11; 8:45 am]

BILLING CODE 6560-50-P